DEPARTMENT OF HEALTH AND HUMAN SERVICES

Centers for Medicare & Medicaid Services

[Document Identifiers: CMS-10143 and CMS-R-284]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Reinstatement without change of a previously approved collection. Title of Information Collection: Monthly State File of Medicaid/Medicare Dual Eligible Enrollees. Use: The monthly data file is provided to CMS by states on dually eligible Medicaid and Medicare beneficiaries, listing the individuals on the Medicaid eligibility file, their Medicare status and other information needed to establish subsidy level, such as income and institutional status. The file will be used to count the exact number of individuals who should be included in the phased-down state contribution calculation that month. CMS will be able to merge the data with other data files and establish Part D enrollment for those individuals on the file. The file may be used by CMS partners to obtain accurate counts of duals on a current basis. Form Number: CMS-10143 (OCN 0938-0958). Frequency: Monthly. Affected Public: State, Local, or Tribal Governments. Number of Respondents: 51. Total Annual Responses: 612. Total Annual Hours: 6,120. (For policy questions regarding this collection contact Goldy Austen at 410-786-6450. For all other issues call 410-786-1326.)

2. Type of Information Collection Request: Revision of a currently approved collection. Title of Information Collection: Medicaid Statistical Information System (MSIS). Use: CMS requests OMB approval of the Medicaid Statistical Information System (MSIS, IBC Form R-284) and allow additional data collection of MSIS data for what CMS now refers to as the Transformed Medicaid Statistical Information System (T-MSIS) data collection. This approval would enable states to continue to fulfill their Medicaid data reporting requirements in parallel from 2013 through 2016 and reduce the burden on states by: eliminating multiple disparate requests for data, allowing states to have one consolidated reporting requirement, and to better perform its responsibilities of Medicaid and CHIP program oversight, administration, and program integrity.

Subsequent to the publication of the 60-day Federal Register notice (August 15, 2012; 77 FR 48987), T-MSIS has been added to the corresponding PRA package to offer CMS and state partners robust, up-to-date, and current information to be able to:

• View how each state and the district implements their programs.

• Compare the delivery of programs across authorities/states.

• Assess the impact of service options on beneficiary outcomes and expenditures.

• Examine the enrollment, service provision, and expenditure experience of providers who participate in our programs (as well as in Medicare).

• Examine beneficiary activity such as application and enrollment history, services received, appropriateness of services received based on enrollment status and applicable statutory authority.

• Use informatics to improve program oversight and inform future policy and operational decisions.

• Answer key Medicaid and CHIP program questions.

Importantly, there is no duplication of effort or information associated with this request. MSIS provides complete Medicaid and CHIP program statistics on a national scale and there is no other similar information or report available. T-MSIS will remove current multiple reporting for similar data by the state to CMS.

Although T-MSIS will report more frequently, (monthly vs. quarterly) the amount of data collected through the expanded dataset will enable efficient processing to more efficiently satisfy data collection needs, thus eliminating additional similar duplicate current reporting processes.

Form Number: CMS-R-284 (OCN 0938-0345). Frequency: Quarterly (MSIS) and Monthly (T-MSIS). Affected Public: State, Local, or Tribal Governments. Number of Respondents: 51. Total Annual Responses: 816. Total Annual Hours: 8,160. (For policy questions regarding this collection contact Kay Spence. at 410-786-1617. For all other issues call 410-786-1326.)

To obtain copies of the supporting statement and any related forms for the proposed paperwork collections referenced above, access CMS Web Site address at http://www.cms.hhs.gov/PaperworkReductionActof1995, or Email your request, including your address, phone number, OMB number, and CMS document identifier, to Paperwork@cms.hhs.gov, or call the Reports Clearance Office on (410) 786-1326.

To be assured consideration, comments and recommendations for the proposed information collections must be received by the OMB desk officer at the address below, no later than 5 p.m. on January 2, 2013: OMB, Office of Information and Regulatory Affairs, Attention: CMS Desk Officer, Fax Number: (202) 395-6974, Email: OIRA_submission@omb.eop.gov.

Dated: November 27, 2012.
Martique Jones,
Director, Regulations Development Group, Division-B, Office of Strategic Operations and Regulatory Affairs.

[FR Doc. 2012-29052 Filed 11-30-12; 8:45 am]

BILLING CODE 4120-01-P